DEPARTMENT OF THE TREASURY

United States Mint

Establish Prices for 2025 United States Mint Numismatic Products

AGENCY: United States Mint, Department of the Treasury.

ACTION: Notice.

SUMMARY: The United States Mint is announcing new pricing for United States Mint numismatic clad products in accordance with the table in the SUPPLEMENTARY INFORMATION section.

DATES: The new numismatic product prices will be effective January 2, 2025.

FOR FURTHER INFORMATION CONTACT: Derrick Griffin; Branch Chief, Product Management; United States Mint, 801 9th Street NW, Washington, DC 20220; or call 202-354-7579.

SUPPLEMENTARY INFORMATION:

Product | Current retail price | New retail price
2018 AMERICAN INNOVATION $1 PROOF COIN | $11.50 | $13.25
2019 EXPLORE AND DISCOVER SET | 19.95 | 22.95
AMERICAN INNOVATION $1 FOUR-COIN PROOF SET | 24.00 | 27.50
AMERICAN INNOVATION DOLLAR 100-COIN BAG—PHILADELPHIA | 117.50 | 123.50
AMERICAN INNOVATION DOLLAR 100-COIN BAG—DENVER | 117.50 | 123.50
AMERICAN INNOVATION $1 COIN REVERSE PROOF SET | 28.00 | 32.25
AMERICAN INNOVATION DOLLAR 25-COIN ROLL—PHILADELPHIA | 34.50 | 36.25
AMERICAN INNOVATION DOLLAR 25-COIN ROLL—DENVER | 34.50 | 36.25
KENNEDY HALF-DOLLAR BAGS 200-COIN BAGS | 147.00 | 154.50
KENNEDY HALF-DOLLAR ROLLS TWO-ROLL SET | 34.50 | 36.25
NATIVE AMERICAN 25-COIN ROLLS—PHILADELPHIA | 34.50 | 36.25
NATIVE AMERICAN 25-COIN ROLLS—DENVER | 34.50 | 36.25
NATIVE AMERICAN 250-COIN BOX—PHILADLEPHIA | 289.75 | 304.25
NATIVE AMERICAN 250-COIN BOX—DENVER | 289.75 | 304.25
NATIVE AMERICAN 100-COIN BAG—PHILADELPHIA | 117.50 | 123.50
NATIVE AMERICAN 100-COIN BAG—DENVER | 117.50 | 123.50
PROOF SET (2 LENS 10-COIN) | 35.00 | 40.25
UNCIRCULATED SET | 29.00 | 33.25
AMERICAN WOMEN QUARTER ORNAMENT | 35.00 | 36.75
AMERICAN WOMEN QUARTER 100-COIN BAG—P | 45.00 | 47.25
AMERICAN WOMEN QUARTER 100-COIN BAG—D | 45.00 | 47.25
AMERICAN WOMEN QUARTER—QUARTER PROOF SET (5-COIN) | 23.00 | 26.50
AMERICAN WOMEN QUARTER—2 ROLLS | 40.00 | 42.00
AMERICAN WOMEN QUARTER—3 ROLLS | 60.00 | 63.00
MIGHTY MINTERS ORNAMENT | 35.00 | 36.75
USM HOLIDAY ORNAMENT | 35.00 | 36.75

Authority: 31 U.S.C. 5111, 5112, 5132, 9701.

Eric Anderson,
Executive Secretary, United States Mint.

[FR Doc. 2024-30616 Filed 12-20-24; 8:45 am]

BILLING CODE 4810-37-P